DEPARTMENT OF TRANSPORTATION

Pipeline and Hazardous Materials Safety Administration

[Docket No. PHMSA-2014-0099; Notice No. 14-11]

Hazardous Materials: Revisions of the Emergency Response Guidebook

AGENCY: Pipeline and Hazardous Materials Safety Administration, DOT.

ACTION: Notice; request for input.

SUMMARY: This notice advises interested persons that the Pipeline and Hazardous Materials Safety Administration (PHMSA) is accepting input on ways to improve the Emergency Response Guidebook (ERG) as it develops the 2016 version (ERG2016), particularly from those who have experience using the ERG. The ERG is for use by emergency services personnel to provide guidance for initial response to hazardous materials incidents. The development of the ERG2016 is a joint effort involving the transportation agencies of the United States, Canada, and Mexico.

ADDRESSES: An email address has been established for interested persons to submit their input: “ERGComments@dot.gov”.

FOR FURTHER INFORMATION CONTACT: Suzette Paes, Outreach, Training and Grants Division (PHH-50), Pipeline and Hazardous Materials Safety Administration (PHMSA), 1200 New Jersey Avenue SE., Washington, DC 20590-0001. Telephone number: (202) 366-4900, email: suzette.paes@dot.gov.

SUPPLEMENTARY INFORMATION:

A. Background and Purpose

The Federal hazardous materials transportation law, 49 U.S.C. 5101 et seq., authorizes the Secretary of Transportation (Secretary) to issue and enforce regulations deemed necessary to ensure the safe transportation of hazardous materials in commerce. In addition, the law directs the Secretary to provide law enforcement and fire-fighting personnel with technical information and advice for responding to emergencies involving the transportation of hazardous materials.

PHMSA developed the United States version of the ERG for use by emergency services personnel to provide guidance for initial response to hazardous materials incidents. Since 1980, it has been the goal of PHMSA that all public emergency response vehicles (e.g., fire-fighting, police, and rescue squads) have immediate access to the ERG. To date and without charge, PHMSA has distributed more than 13 million copies of the ERG to emergency service agencies, and developed free online and mobile apps to make the ERG more accessible. Since 1996, PHMSA, Transport Canada, and the Secretariat of Communication and Transport of Mexico have developed the ERG as a joint effort, with assistance of interested parties from government and industry including the collaboration of CIQUIME of Argentina. The ERG2016 will be published in English, French, and Spanish.

Publication of the ERG2016 will increase public safety by providing consistent emergency response procedures for hazardous materials incidents in North America. To continually improve the ERG, PHMSA is publishing this notice to alert interested parties of an open-ended method to relate their experiences using the ERG and on ways the ERG could be modified or improved.

In addition to this notice, PHMSA will publicize its interest in receiving input on the ERG2016 through future announcements to emergency responder associations, during training and education seminars, and during activities with State and local government agencies. PHMSA has established an email address for interested persons to submit their input: “ERGComments@dot.gov”.

William S. Schoonover,
Deputy Associate Administrator.

[FR Doc. 2014-20683 Filed 8-29-14; 8:45 am]

BILLING CODE 4910-60-P